DEPARTMENT OF AGRICULTURE

Grain Inspection, Packers and Stockyards Administration

United States Standards for Feed Peas, Split Peas, and Lentils

AGENCY: Grain Inspection, Packers and Stockyards Administration, USDA

ACTION: Notice and request for comments.

SUMMARY: The Department of Agriculture's (USDA) Grain Inspection, Packers, and Stockyards Administration (GIPSA) is reviewing the United States Standards for Feed Peas, Split Peas, and Lentils under the Agriculture Marketing Act (AMA) of 1946. To ensure that the standards and official grading practices remain relevant, GIPSA invites interested parties to comment on whether the current U.S. Standards for Feed Peas, Split Peas, and Lentils are meeting the needs in today's marketing environment.

DATES: GIPSA will consider comments received by November 22, 2013.

ADDRESSES: You may submit your written or electronic comments on this notice to:

• Mail, hand deliver, or courier: Irene Omade, GIPSA, USDA, 1400 Independence Avenue SW., Room 2530, Washington, DC, 20250-3604.

• Email comments to: comments.gipsa@usda.gov

• Fax: (202) 690-2173.

• Internet: Go to http://www.regulations.gov and follow the online instructions for submitting comments.

All comments will become a matter of public record and should be identified as “Feed Peas, Split Peas, and Lentil Comments,” making reference to the date and page number of this issue of the Federal Register. Comments will be available for public inspection in the above office during regular business hours (7 CFR 1.27(b)). Please call the GIPSA Management and Budget Services at (202) 720-7486 to make an appointment to read comments.

FOR FURTHER INFORMATION CONTACT: Beverly A. Whalen at USDA, GIPSA, FGIS, Policies, Procedures, and Market Analysis Branch, Field Management Division, National Grain Center, 10383 N. Ambassador Drive, Kansas City, Missouri 64153; Telephone (816) 659-8410; Fax Number (816) 872-1258; email Beverly.A.Whalen@usda.gov.

SUPPLEMENTARY INFORMATION: GIPSA will solicit comments for 30 days. All comments received within the comment period will be made part of the public record maintained by GIPSA, will be available to the public for review, and will be considered by GIPSA before final action is taken on the proposal.

Authority: 7 U.S.C. 1621 et seq.

Larry Mitchell,
Administrator, Grain Inspection, Packers and Stockyards Administration.

[FR Doc. 2013-24742 Filed 10-22-13; 8:45 am]

BILLING CODE 3410-KD-P